FEDERAL COMMUNICATIONS COMMISSION

47 CFR Part 73

[DA 22-540; MB Docket No. 22-188; RM-11928; FR ID 88420]

Radio Broadcasting Services; Big Coppitt Key, Florida

AGENCY: Federal Communications Commission.

ACTION: Proposed rule.

SUMMARY: This document requests comments on a Petition for Rule Making filed by Spottswood Partners II, Ltd, proposing to amend the FM Table of Allotments, by allotting Channel 265C3 to Big Coppitt Key, Florida, as the first local service. A staff engineering analysis indicates that Channel 265C3 can be allotted to Big Coppitt Key, Florida, consistent with the minimum distance separation requirements of the Commission's rules (Rules), with a site restriction of 14.5 km (9.0 miles) northeast of the community. The reference coordinates are 24-39-34 NL and 81-32-17 WL.

DATES: Comments must be filed on or before July 11, 2022, and reply comments on or before July 26, 2022.

ADDRESSES: Secretary, Federal Communications Commission, 45 L Street NE, Washington, DC 20554. In addition to filing comments with the FCC, interested parties should serve the counsel to petitioner as follows: Stephen Hartzell, Patrick Cross, and Micole Little, Esq., BROOKS, PIERCE, McLENDON, HUMPHREY & LEONARD, L.L.P., Wells Fargo Capitol Center, Suite 1700, Raleigh, North Carolina 27602.

FOR FURTHER INFORMATION CONTACT: Rolanda F. Smith, Media Bureau, (202) 418-2700.

SUPPLEMENTARY INFORMATION: This is a synopsis of the Federal Communications Commission's (Commission) Notice of Proposed Rule Making, MB Docket No. 22-188, adopted May 17, 2022, and released May 18, 2022. The full text of this Commission decision is available online at https://apps.fcc.gov/ecfs/. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of l980 do not apply to this proceeding. Members of the public should note that from the time a notice of proposed rulemaking is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Federal Communications Commission.
Nazifa Sawez,
Assistant Chief, Audio Division, Media Bureau.

Proposed Rules

For the reasons discussed in the preamble, the Federal Communications Commission proposes to amend 47 CFR part 73 as follows:

PART 73—RADIO BROADCAST SERVICES

1. The authority citation for part 73 continues to read as follows:

Authority: 47 U.S.C. 154, 155, 301, 303, 307, 309, 310, 334, 336, 339.

2. In § 73.202(b), amend the Table of FM Allotments under Florida by adding in alphabetical order an entry for “Big Coppitt Key” to read as follows:

§ 73.202 Table of Allotments.

* * * * *

(b) * * *

Table 1 to Paragraph (b)
[U.S. States]
| Channel No.
* * * * *
Florida
Big Coppitt Key | 265C3
* * * * *

[FR Doc. 2022-11370 Filed 5-25-22; 8:45 am]

BILLING CODE 6712-01-P